DEPARTMENT OF ENERGY

Federal Energy Regulatory Commission

[Project No. 11858-002]

Elsinore Municipal Water District and the Nevada Hydro Company, Inc, CA; Notice of Availability of the Final Environmental Impact Statement for the Proposed Lake Elsinore Advanced Pumped Storage Project

January 30, 2007.

The staff of the Federal Energy Regulatory Commission (FERC or Commission) has prepared the final Environmental Impact Statement (EIS) Lake Elsinore Advanced Pumped Storage Project in the above-referenced docket.

The final EIS was prepared to satisfy the requirements of the National Environmental Policy Act of 1969, as amended, and the FERC regulations, 18 CFR Part 380. The Office of Energy Projects has reviewed the application for license for the proposed Lake Elsinore Advanced Pumped Storage Project, located on Lake Elsinore and San Juan Creek, in the Town of Lake Elsinore, Riverside County, California.

In the final EIS, Commission staff evaluated the co-applicant's proposal and the alternatives for licensing the proposed project. The final EIS documents the views of governmental agencies, non-governmental organizations, affected Indian tribes, the public, the license applicants, and Commission staff.

Copies are available for review in Public Reference Room 2-A of the Commission's offices at 888 First Street, NE., Washington, DC. The EIS also may be viewed on the Commission's Internet Web site (http://www.ferc.gov) using the “eLibrary” link. Additional information about the project is available from the Commission's Office of External Affairs at (202) 502-6088, or on the Commission's Web site using the eLibrary link. For assistance with eLibrary, contact FERCOnlineSupport@ferc.gov. or call toll-free at (866) 208-3676; for TTY contact (202) 502-8659.

Magalie R. Salas,
Secretary.

[FR Doc. E7-1910 Filed 2-6-07; 8:45 am]

BILLING CODE 6717-01-P